DEPARTMENT OF ENERGY

Federal Energy Regulatory Commission

[Docket No. RP11-1566-000]

Tennessee Gas Pipeline Company; Notice of Technical Conference

On November 30, 2010, pursuant to section 4 of the Natural Gas Act (NGA), Tennessee Gas Pipeline Company (Tennessee) filed revised tariff records proposing a rate increase for existing services and changes to certain terms and conditions of service, including elimination of certain rate schedules. On December 29, 2010 the Commission accepted and suspended the primary tariff records proposed to be effective June 1, 2011, subject to refund and to the outcome of a hearing and technical conference. Tennessee Gas Pipeline Company, 133 FERC ¶ 61,266 (2010). This technical conference was originally noticed to take place February 2 and 3, 2011, but was postponed due to inclement weather.

Take notice that a technical conference to discuss non-rate issues raised by Tennessee's filing will be held on, Tuesday, February 15, 2011 at 10 a.m.(EST) and Wednesday, February 16, 2011 at 10 a.m. (EST), in a room to be designated at the offices of the Federal Energy Regulatory Commission, 888 First Street, NE., Washington, DC 20426.

Federal Energy Regulatory Commission conferences are accessible under section 508 of the Rehabilitation Act of 1973. For accessibility accommodations please send an e-mail to accessibility@ferc.gov or call toll free 1-866-208-3372 (voice) or 202-208-1659 (TTY), or send a FAX to 202-208-2106 with the required accommodations.

All interested persons, parties, and staff are permitted to attend. For further information please contact Robert D. McLean (202) 502-8156.

Dated: February 3, 2011.
Nathaniel J. Davis, Sr.,
Deputy Secretary.

[FR Doc. 2011-2934 Filed 2-9-11; 8:45 am]

BILLING CODE 6717-01-P